TENNESSEE VALLEY AUTHORITY

Meeting of the Regional Resource Stewardship Council

AGENCY: Tennessee Valley Authority (TVA).

ACTION: Notice of Federal Advisory Committee Act meeting.

SUMMARY: The TVA Regional Resource Stewardship Council (RRSC) will hold a meeting on August 21 and 22, 2023, regarding TVA's natural resources and stewardship matters in the Tennessee Valley.

DATES: The meeting will be held in Guntersville, Alabama at the Lake Guntersville State Park, Monday, August 21, 2023, from 12:00 p.m. to 5:45 p.m. C.T. and Tuesday, August 22, 2023, from 12:30 p.m. to 5:00 p.m. C.T. RRSC council members are invited to attend the meeting in person. The public is invited to view the meeting virtually or to attend in-person. A one hour virtual or in-person public listening session will be held August 21, at 4:30 p.m. C.T. A link and instructions to view the meeting will be posted on TVA's RRSC website at www.tva.gov/rrsc at least one week prior to the scheduled meeting.

ADDRESSES: The public is invited to view the meeting virtually or attend in person. The in-person meeting will be held at the Lake Guntersville State Park, Guntersville, AL 35976. Members of the public are also invited to speak either virtually or in person during a public listening session. Persons who wish to speak virtually must preregister by 5:00 p.m. E.T. Friday, August 18, 2023, by emailing bhaliti@tva.gov and specify whether they wish to speak virtually or in-person. Anyone needing special accommodations should let the contact below know at least one week in advance.

FOR FURTHER INFORMATION CONTACT: Bekim Haliti, bhaliti@tva.gov, 931-349-1894.

SUPPLEMENTARY INFORMATION: The RRSC is a discretionary advisory committee established under the authority of the Tennessee Valley Authority (TVA) in accordance with the provisions of the Federal Advisory Committee Act (FACA), as amended, 5 U.S.C. app. 2.

The meeting agenda includes the following:

Day 1—August 21

1. Welcome and Introductions

2. RRSC and TVA Meeting Update

3. TVA's Sustainability Program Workshop with EPRI

4. Public Listening Session

Day 2—August 22

5. Welcome and Review of Day 1

6. Finalize Advice Statement

7. Update on TVA's River Management and Natural Resources

8. TVA's Cultural Compliance Presentation

The RRSC will hear views of the public by providing a 1-hour public comment session starting August 21 at 4:30 p.m. C.T. Persons wishing to speak virtually must register at bhaliti@tva.gov or call 931-349-1894 by 5:00 p.m. E.T. Friday, August 18, 2023, and will be called on during the public listening session for up to five minutes to share their views. Written comments are also invited and may be emailed to bhaliti@tva.gov.

Dated: July 17, 2023.
Melanie Farrell,
Vice President, External Stakeholders and Regulatory Oversight, Tennessee Valley Authority.

[FR Doc. 2023-16056 Filed 7-27-23; 8:45 am]

BILLING CODE 8120-08-P